DEPARTMENT OF AGRICULTURE

Forest Service

Siuslaw Resource Advisory Committee

AGENCY: Forest Service, USDA.

ACTION: Notice of meeting.

SUMMARY: The Siuslaw Resource Advisory Committee will meet in Corvallis, OR. The purpose of the meeting is to hold RAC FY10 Business, Review 2009 Project Monitoring Results, Make recommendations for 2010 Title II Project Proposals.

DATES: The meeting will be held September 17, 2009 beginning at 8 a.m.

ADDRESSES: The meeting will be held at the Siuslaw National Forest Supervisor's Office, 4077 SW Research Way, Corvallis, Oregon.

FOR FURTHER INFORMATION CONTACT: Joni Quarnstrom, Siuslaw Public Affairs Officer, Siuslaw National Forest, 541-750-7075 or write to Forest Supervisor, Siuslaw National Forest, 4077 SW Research Way, Corvallis, OR 97339.

SUPPLEMENTARY INFORMATION: A public input period will begin before 2009 project review.

Dated: August 17, 2009.
Teresa Raaf,
Acting Forest Supervisor.

[FR Doc. E9-20316 Filed 8-25-09; 8:45 am]

BILLING CODE 3410-11-M